FEDERAL COMMUNICATIONS COMMISSION

Network Reliability and Interoperability Council

AGENCY: Federal Communications Commission.

ACTION: Notice of public meeting.

SUMMARY: In accordance with the Federal Advisory Committee Act, this notice advises interested persons of the fifth meeting of the Network Reliability and Interoperability Council (Council) under its charter renewed as of December 26, 2001. The meetings will be held at the Federal Communications Commission in Washington, DC.

DATES: Monday, September 15, 2003, from 1 p.m. to 4 p.m.

ADDRESSES: Federal Communications Commission, 445 12th Street SW., Room TW-C305, Washington, DC.

FOR FURTHER INFORMATION CONTACT: Jeffery Goldthorp at 202-418-1096 or TTY 202-418-2989.

SUPPLEMENTARY INFORMATION: The Council was established by the Federal Communications Commission to bring together leaders of the telecommunications industry and telecommunications experts from academic, consumer and other organizations to explore and recommend measures that will enhance network security, reliability and interoperability. At the September meeting the Council will discuss the progress of working groups that are addressing the topics that are contained in the Council's charter and any additional issues that may come before it.

Members of the general public may attend the meeting. The Federal Communications Commission will attempt to accommodate as many people as possible. Admittance, however, will be limited to the seating available. The public may submit written comments before the meeting to Jeffery Goldthorp, the Commission's Designated Federal Officer for the Network Reliability and Interoperability Council, by e-mail Jeffery.Goldthorp@fcc.gov or U.S. mail (7-A325, 445 12th Street SW., Washington, DC 20554). Real Audio and streaming video Access to the meeting will be available at http://www.fcc.gov.

Federal Communications Commission.
Marlene Dortch,
Secretary.

[FR Doc. 03-21863 Filed 8-26-03; 8:45 am]

BILLING CODE 6712-01-P